SUSQUEHANNA RIVER BASIN COMMISSION

Actions Taken at September 7, 2017, Meeting

AGENCY: Susquehanna River Basin Commission.

ACTION: Notice.

SUMMARY: As part of its regular business meeting held on September 7, 2017, in Elmira, New York, the Commission took the following actions: (1) Approved or tabled the applications of certain water resources projects; and (2) took additional actions, as set forth in the Supplementary Information below.

DATES: September 7, 2017.

ADDRESSES: Susquehanna River Basin Commission, 4423 N. Front Street, Harrisburg, PA 17110-1788.

FOR FURTHER INFORMATION CONTACT: Jason E. Oyler, General Counsel, telephone: 717-238-0423, ext. 1312; fax: 717-238-2436; joyler@srbc.net. Regular mail inquiries may be sent to the above address. See also Commission Web site at www.srbc.net.

SUPPLEMENTARY INFORMATION: In addition to the actions taken on projects identified in the summary above and the listings below, the following items were also presented or acted upon at the business meeting: (1) Approval of a grant and a grant amendment; (2) tabled action to amend Commission By-laws; (3) adoption of guidelines for preparing an alternatives analysis to provide clarity to project sponsors regarding a formal evaluation of alternate options for a proposed water source, use or diversion; (4) release of proposed rulemaking to amend the Commission's regulations to codify and strengthen its Access to Records Policy; (5) approval of waiver requests of Carrolltown Borough Municipal Authority and the Village of Hamilton to extend the expiration dates of their groundwater withdrawal approvals; (6) approval of Middletown Borough's request for waiver, modifying the requirements of the regulation appropriate to Middletown's request and directed staff to apply this modification to similar situations while a corresponding rulemaking is developed; (7) denied a request for waiver from Peak Resorts, Inc./Greek Peak Mountain Resort; (8) approval to extend the terms of emergency certificates for Sunset Golf Course, Sunoco Pipeline L.P., and Furman Foods, Inc.; and (9) a report on delegated settlements with the following project sponsors, pursuant to SRBC Resolution 2014-15: Labrador Mountain, in the amount of $2,000; Standing Stone Golf Club, Inc., in the amount of $2,000; and Suez Water Owego-Nichols, Inc., in the amount of $7,500.

Project Applications Approved

The Commission approved the following project applications:

1. Project Sponsor and Facility: Cabot Oil & Gas Corporation (Meshoppen Creek), Springville Township, Susquehanna County, Pa. Renewal with modification of surface water withdrawal of up to 0.750 mgd (peak day) (Docket No. 20130904).

2. Project Sponsor and Facility: Chesapeake Appalachia, L.L.C. (Chemung River), Athens Township, Bradford County, Pa. Renewal of surface water withdrawal of up to 0.999 mgd (peak day) (Docket No. 20130905).

3. Project Sponsor and Facility: Chesapeake Appalachia, L.L.C. (Sugar Creek), Burlington Township, Bradford County, Pa. Renewal of surface water withdrawal of up to 0.499 mgd (peak day) (Docket No. 20130906).

4. Project Sponsor and Facility: Chesapeake Appalachia, L.L.C. (Susquehanna River), Terry Township, Bradford County, Pa. Renewal of surface water withdrawal of up to 1.440 mgd (peak day) (Docket No. 20130907).

5. Project Sponsor and Facility: Chief Oil & Gas LLC (Towanda Creek), Leroy Township, Bradford County, Pa. Surface water withdrawal of up to 1.500 mgd (peak day).

6. Project Sponsor and Facility: Downs Racing, L.P. d/b/a Mohegan Sun Pocono, Plains Township, Luzerne County, Pa. Consumptive use of up to 0.350 mgd (peak day).

7. Project Sponsor and Facility: Elizabethtown Area Water Authority, Mount Joy Township, Lancaster County, Pa. Renewal of groundwater withdrawal of up to 0.432 mgd (30-day average) from Well 6 (Docket No. 19861103).

8. Project Sponsor and Facility: Elizabethtown Area Water Authority, Mount Joy Township, Lancaster County, Pa. Groundwater withdrawal of up to 0.432 mgd (30-day average) from Well 7.

9. Project Sponsor and Facility: Elizabethtown Area Water Authority, Elizabethtown Borough and Mount Joy Township, Lancaster County, Pa. Modification to correct total system limit to remove inclusion of water discharged to the Conewago watershed to offset passby and transfer of water from Conewago Creek to Back Run (Docket No. 20160903).

10. Project Sponsor and Facility: Moxie Freedom LLC, Salem Township, Luzerne County, Pa. Modification to increase consumptive use by an additional 0.408 mgd (peak day), for a total consumptive use of up to 0.500 mgd (peak day) (Docket No. 20150907).

11. Project Sponsor and Facility: Susquehanna Gas Field Services, LLC (Meshoppen Creek), Meshoppen Borough, Wyoming County, Pa. Renewal of surface water withdrawal of up to 0.145 mgd (peak day) (Docket No. 20130913).

12. Project Sponsor and Facility: Susquehanna Nuclear, LLC, Salem Township, Luzerne County, Pa. Modification to increase consumptive use by an additional 5.000 mgd (peak day), for a total consumptive use of up to 53.000 mgd (peak day) (Docket No. 19950301).

13. Project Sponsor and Facility: Susquehanna Nuclear, LLC (Susquehanna River), Salem Township, Luzerne County, Pa. Modification to increase surface water withdrawal by an additional 10.000 mgd (peak day), for a total surface water withdrawal increase of up to 76.000 mgd (peak day) (Docket No. 19950301).

14. Project Sponsor and Facility: SWEPI LP (Elk Run), Sullivan Township, Tioga County, Pa. Surface water withdrawal of up to 0.646 mgd (peak day).

15. Project Sponsor and Facility: SWN Production Company, LLC (Wyalusing Creek), Wyalusing Township, Bradford County, Pa. Renewal of surface water withdrawal of up to 2.000 mgd (peak day) (Docket No. 20130911).

16. Project Sponsor and Facility: Transcontinental Gas Pipe Line Company, LLC. Project: Atlantic Sunrise (Fishing Creek), Sugarloaf Township, Columbia County, Pa. Modification to add consumptive use of up to 0.200 mgd (peak day) to existing docket approval (Docket No. 20160913).

17. Project Sponsor and Facility: Transcontinental Gas Pipe Line Company, LLC. Project: Atlantic Sunrise (Fishing Creek), Sugarloaf Township, Columbia County, Pa. Modification to change authorized use of source to existing docket approval (Docket No. 20160913).

Project Applications Tabled

The Commission tabled action on the following project applications:

1. Project Sponsor and Facility: Houtzdale Municipal Authority, Gulich Township, Clearfield County, Pa. Application for groundwater withdrawal of up to 1.008 mgd (30-day average) from Well 14R.

2. Project Sponsor and Facility: Village of Waverly, Tioga County, N.Y. Application for groundwater withdrawal of up to 0.320 mgd (30-day average) from Well 1.

3. Project Sponsor and Facility: Village of Waverly, Tioga County, N.Y. Application for groundwater withdrawal of up to 0.480 mgd (30-day average) from Well 2.

4. Project Sponsor and Facility: Village of Waverly, Tioga County, N.Y. Application for groundwater withdrawal of up to 0.470 mgd (30-day average) from Well 3.

Authority: Pub. L. 91-575, 84 Stat. 1509 et seq., 18 CFR parts 806, 807, and 808.

Dated: September 19, 2017.
Stephanie L. Richardson,
Secretary to the Commission.

[FR Doc. 2017-20276 Filed 9-21-17; 8:45 am]

BILLING CODE 7040-01-P